DEPARTMENT OF AGRICULTURE

Rural Housing Service

7 CFR Part 3550

RIN 0575-AC88

Single Family Housing Direct Loan Program

AGENCY: Rural Housing Service, USDA.

ACTION: Final rule; deferral of effective date.

SUMMARY: On April 29, 2015, the Rural Housing Service (RHS) published a final rule to create a certified loan application packaging process for the direct single family housing loan program. The effective date was listed as July 28, 2015 and is being deferred to October 1, 2015.

DATES: Effective date: The effective date of the final rule published April 29, 2015 (80 FR 23673) is deferred from July 28, 2015, to October 1, 2015.

FOR FURTHER INFORMATION CONTACT: Brooke Baumann, Branch Chief, Single Family Housing Direct Loan Division, USDA Rural Development, Stop 0783, 1400 Independence Avenue SW., Washington, DC 20250-0783, Telephone: 202-690-4250. Email: brooke.baumann@wdc.usda.gov.

SUPPLEMENTARY INFORMATION: In December 2014, the existing intermediaries under the pilot were informed that the pilot would end with the effective date of the final rule to create a certified loan application packaging process. While this expiration provision for the pilot was known, the actual date came sooner than expected. To allow the existing intermediaries under the pilot sufficient time to process loan application packages in their queue and to prepare for the implementation of the final rule, the effective date for the final rule will be deferred to October 1, 2015.

Dated: May 18, 2015.
Tony Hernandez,
Administrator, Rural Housing Service.

[FR Doc. 2015-13463 Filed 6-4-15; 8:45 am]

BILLING CODE 3410-XV-P